FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Nextrans International, Inc., 1225 W. 190th Street, Suite 310, Gardena, CA 90248, Officers: John A. Kamischke, President (Qualifying Individual), Roy W. Cheong, Secretary

Transcon Shipping Co., Inc., 2157 Center Ave., Unit #4, Fort Lee, NJ 07024, Officers: Terrence P. Lynch, President (Qualifying Individual), Wai Wong, Vice President

Galaxy Shipping Company, Inc., 314 Whites Landing, Long Beach, CA 90803, Officers: Eliane Tiharu Susaki, Secretary (Qualifying Individual), Les Atterbury III, President

MTL Worldwide Agency, Inc., 228 51st Street, Brooklyn, NY 11220, Officer: Aleksandr Solovyev, President (Qualifying Individual)

Trans Orient Express LLC, 2625 Athena Place, Fullerton, CA 92833, Officers: Edward Chang, Chief Operating Officer (Qualifying Individual), Jia He Bai, President

Non-Vessel Operating Common Carrier and Ocean Freight Forwarder Transportation Intermediary Applicants

Transunion America, Inc., 66-00 Long Island Expressway, Suite 200, Maspeth, NY 11378, Officers: Brigid Gatti, Secretary, Geri S. Alex, Import and Export Manager (Qualifying Individuals), Jose Viano, President

Ocean Freight Forwarders—Ocean Transportation Intermediary Applicants

Cardel International Shipping Corp., 405 North 61st Avenue, Hollywood, FL 33024, Officer: Carmen Delgado, President (Qualifying Individual)

Dated: April 14, 2000.
Bryant L. VanBrakle,
Secretary.

[FR Doc. 00-9827 Filed 4-18-00; 8:45 am]

BILLING CODE 6730-01-P